FEDERAL MARITIME COMMISSION

Security for the Protection of the Public Financial Responsibility To Meet Liability Incurred for Death or Injury to Passengers or Other Persons on Voyages; Notice of Issuance of Certificate (Casualty)

Notice is hereby given that the following have been issued a Certificate of Financial Responsibility To Meet Liability Incurred for Death or Injury to Passengers or Other Persons on Voyages pursuant to the provisions of section 2, Public Law 89-777 (46 App. U.S.C. 817 (d)) and the Federal Maritime Commission's implementing regulations at 46 CFR part 540, as amended:

American Cruise Lines, Inc., One Marine Park, Haddam, CT 06438,

Vessel: AMERICAN SPIRIT.

Carnival Corporation (d/b/a Carnival and Carnival Cruise Line), 3655 NW 87th Avenue, Miami, FL 33178,

Vessel: CARNIVAL LIBERTY.

Costa Crociere S.p.A. and Costa Cruise Lines N.V., Venture Corporate Center II, 200 South Park Road, Suite 200, Hollywood, FL 33021-8541,

Vessel: COSTA MAGICA.

NCL (Bahamas) Ltd. and Norwegian Jewel Ltd., 7665 Corporate Center Drive, Miami, FL 33126,

Vessel: NORWEGIAN JEWEL.

NCL (Bahamas) Ltd. and Pride of America Ship Holding, Inc., 7665 Corporate Center Drive, Miami, FL 33126,

Vessel: PRIDE OF AMERICA.

Princess Cruise Lines, Ltd., 24305 Town Center Drive, Santa Clarita, CA 91355,

Vessel: SEA PRINCESS.

Princess Cruise Lines, Ltd., and Carnival PLC, 24305 Town Center Drive, Santa Clarita, CA 91355,

Vessel: PACIFIC PRINCESS and TAHITIAN PRINCESS.

Saga Shipping Company, Ltd., Saga Cruises Ltd., Saga Holidays Limited, Saffron Maritime/Columbia Ship Management, Magsaysay Maritime Corporation, Saga Group, Saga Holdings Ltd., The Saga Building, Enbrook Park, Folkestone, Kent CT20 3SE,

Vessel: SAGA RUBY.

Dated: September 30, 2005.
Bryant L. VanBrakle,
Secretary.

[FR Doc. 05-20010 Filed 10-4-05; 8:45 am]

BILLING CODE 6730-01-P